DEPARTMENT OF COMMERCE

National Oceanic and Atmospheric Administration

[I.D. 101304E]

Issuance of Permit 1493

AGENCY: National Marine Fisheries Service (NMFS), National Oceanic and Atmospheric Administration, Commerce.

ACTION: Notice of decision and availability of decision documents on the issuance of ESA research/enhancement permit 1493 for takes of endangered species.

SUMMARY: This notice advises the public that a scientific research permit to the Bonneville Power Administration (BPA) and the Confederated Tribes and Bands of the Yakama Nation, as their agent, pursuant to the Endangered Species Act of 1973 (ESA), has been issued and that the decision documents are available upon request.

DATES: Permit 1493 was issued on September 15, 2004, subject to certain conditions set forth therein. The permit expires on September 15, 2009.

ADDRESSES: Requests for copies of the decision documents or any of the other associated documents should be directed to the Salmon Recovery Division, NOAA Fisheries, 525 NE Oregon Street, Suite 510, Portland, Oregon 97232. The documents are also available on the Internet at www.nwr.noaa.gov.

FOR FURTHER INFORMATION CONTACT: Kristine Petersen, Portland, OR, at phone number: (503) 230-5409, e-mail: Kristine.Petersen@noaa.gov

SUPPLEMENTARY INFORMATION: The following species and evolutionarily significant units (ESUs) are covered in the permit:

Steelhead (Oncorhynchus mykiss): endangered Upper Columbia River.

Chinook salmon (O. tshawytscha): endangered Upper Columbia River spring run.

Issuance of this permit, as required by the ESA, was based on a finding that such permits: (1) were applied for in good faith; (2) will not operate to the disadvantage of the listed species which are the subject of the permits; and (3) is consistent with the purposes and policies set forth in section 2 of the ESA. This permit was issued in accordance with, and is subject to, 50 CFR part 222, the NMFS regulations governing listed species permits.

Dated: November 9, 2004.
Phil Williams,
Chief, Endangered Species Division, Office of Protected Resources, National Marine Fisheries Service.

[FR Doc. 04-25317 Filed 11-12-04; 8:45 am]

BILLING CODE 3510-22-S